DEPARTMENT OF THE INTERIOR

Bureau of Land Management

[OR-010-1020-PK; HAG 05-0005]

Meeting Notice for the Southeast Oregon Resource Advisory Council

AGENCY: Bureau of Land Management (BLM), Lakeview District.

SUMMARY: The Southeast Oregon Resource Advisory Council (SEORAC) will hold a meeting for all members from 8 a.m. to 5 p.m. Standard Time (ST), Thursday, November 18, 2004 and 8 a.m. to noon (ST) on Friday, November 19, 2004 at the Holiday Inn, 1249 Tapadera Ave, Ontario, Oregon 97914. Members of the public may attend the meeting in person at the Holiday Inn Lewis and Clark Meeting Rooms. The meeting topics that may be discussed by the Council include a discussion of issues within Southeast Oregon related to: Welcome new members, Role and Responsibilities of RAC members; 2005 Calendar Dates; RAC charter changes. Update on Steens/Andrews RMP. Vale District weed presentation. Archeological presentation. Discussion of the subcommittee priorities and roles, meeting of subcommittees; Lakeview RMP, Timber Salvage, Wild Horses, North Lake Recreation Plan. Federal Officials' update and other issues that may come before the Council.

Friday, November 19, 2004 the SEORAC will have a field trip to the Owyhee River.

Information to be distributed to the Council members is requested in written format 10 days prior to the Council meeting. Public comment is scheduled for 9:15 a.m. (ST) on Thursday, November 18, 2004.

FOR FURTHER INFORMATION CONTACT: Additional information concerning the SEORAC meeting may be obtained from Pam Talbott, Contact Representative, Lakeview Interagency Office, 1301 South G Street, Lakeview, OR 97630 (541) 947-6107, or ptalbott@or.blm.gov and/or from the following Web site http://www.or.blm.gov/SEOR-RAC.

Dated: October 12, 2004.
Steven A. Ellis,
District Manager.

[FR Doc. 04-23727 Filed 10-21-04; 8:45 am]

BILLING CODE 4310-33-P